DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Northwest Region Federal Fisheries Permits.

OMB Control Number: 0648-0203.

Form Number(s): NA.

Type of Request: Regular submission (revision and extension of a current information collection).

Number of Respondents: 586.

Average Hours per Response: Limited entry permit LEP) renewal, 20 minutes; LEP transfer, 30 minutes; ownership interest form, 10 minutes; Exempted Fishery Permit (EFP) proposal, 32 hours; pre-season plan, 16 hours; data reports, 2 hours; summary reports, 24 hours.

Burden Hours: 983.

Needs and Uses: This request is for a revision and extension of a currently approved information collection.

The Magnuson-Stevens Act (16 U.S.C. 1801) provides that the Secretary of Commerce is responsible for the conservation and management of marine fisheries resources in Exclusive Economic Zone (3-200 miles) of the United States (U.S.). NOAA Fisheries, Northwest Region manages the Pacific Coast Groundfish Fishery in the Exclusive Economic Zone (EEZ) off Washington, Oregon, and California under the Pacific Coast Groundfish Fishery Management Plan. The regulations implementing the Pacific Groundfish Fishery require that those individuals participating in the limited entry fishery have a valid limited entry permit. Participation in the fishery and access to a limited entry permit has been restricted to control the overall harvest capacity.

NOAA Fisheries seeks comment on the extension of permit information collections required for: (1) Renewal and transfer of Pacific Coast Groundfish limited entry permits; (2) implementation of certain provisions of the sablefish permit stacking program as provided for at 50 CFR 660.231 and 660.25; and (3) issuing and fulfilling the terms and conditions of certain exempted fishing permits (EFPs).

Revisions: (1) Addition of a mandatory question to the renewal form to determine if a permit owner registered to a permit is considered a small business as defined by the Small Business Act. This information assists regional staff in preparing initial and final regulatory flexibility analyses required as part of various rulemakings. (2) Certification statement on the ownership interest, transfer and renewal forms will include a clause that the individual making the certification (signing the form) is authorized to do so, and make them consistent with other certification statements on other forms.

Affected Public: Business or other for-profit organizations.

Frequency: Annually, semi-annually, monthly and on occasion.

Respondent's Obligation: Required to obtain or retain benefits.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: June 19, 2013.
Gwellnar Banks,
Management Analyst, Office of the Chief Information Officer.

[FR Doc. 2013-14978 Filed 6-21-13; 8:45 am]

BILLING CODE 3510-22-P